DEPARTMENT OF COMMERCE

International Trade Administration

[A-823-819]

Seamless Carbon and Alloy Steel Standard, Line, and Pressure Pipe From Ukraine: Preliminary Results of Antidumping Duty Administrative Review; 2021-2022

AGENCY: Enforcement and Compliance, International Trade Administration, Department of Commerce.

SUMMARY: The U.S. Department of Commerce (Commerce) preliminarily determines that the respondent under review sold seamless carbon and alloy steel standard, line, and pressure pipe (seamless pipe) from Ukraine at less than normal value during the period February 10, 2021, through July 31, 2022 (the period of review or POR). We invite interested parties to comment on the preliminary results of this review.

DATES: Applicable September 7, 2023.

FOR FURTHER INFORMATION CONTACT: Reginald Anadio, AD/CVD Operations, Office IV, Enforcement and Compliance, International Trade Administration, U.S. Department of Commerce, 1401 Constitution Avenue NW, Washington, DC 20230; telephone: (202) 482-3166.

SUPPLEMENTARY INFORMATION:

Background

After publishing the antidumping duty order on seamless pipe from Ukraine in the Federal Register,¹ on August 2, 2022, Commerce notified interested parties of the opportunity to request an administrative review of the Order covering the POR.² On October 11, 2022, based on a timely request for review,³ Commerce initiated an administrative review of the Order ⁴ with respect to Interpipe.⁵ The petitioner, a domestic producer of seamless pipe, is: Vallourec Star, L.P. On April 27, 2023, Commerce extended the deadline for issuing the preliminary results of this review until August 31, 2023, in accordance with section 751(a)(3)(A) of the Tariff Act of 1930, as amended (the Act) and 19 CFR 351.213(h)(2).⁶ For details regarding the events that occurred subsequent to initiation of the review, see the Preliminary Decision Memorandum.

¹ See Seamless Carbon and Alloy Steel Standard, Line, and Pressure Pipe from the Republic of Korea, the Russian Federation, and Ukraine: Antidumping Duty Orders, 86 FR 47055 (August 23, 2021) (Order).

² See Antidumping or Countervailing Duty Order, Finding, or Suspended Investigation; Opportunity to Request Administrative Review and Join Annual Inquiry Service List, 87 FR 47187 (August 2, 2022).

³ See Interpipe's Letter, “Request for Review,” dated August 31, 2022.

⁴ See Initiation of Antidumping and Countervailing Duty Administrative Reviews, 87 FR 61278 (October 11, 2022).

⁵ Interpipe refers to the collapsed entity, Interpipe Ukraine LLC (Interpipe Ukraine), PJSC Interpipe Niznedneprovsky Tube Rolling Plant (Interpipe NTRP), LLC Interpipe Niko Tube (Interpipe Niko Tube) and Interpipe Europe S.A. (Interpipe Europe). See Memorandum, “Decision Memorandum for Preliminary Results of the 2021-2022 Administrative Review of the Antidumping Duty Order on Seamless Carbon and Alloy Steel Standard, Line, and Pressure Pipe from Ukraine,” dated concurrently with, and hereby adopted by, this notice (Preliminary Decision Memorandum).

⁶ See Memorandum, “Extension of Deadline for Preliminary Results of Antidumping Duty Administrative Review,” dated April 27, 2023.

Scope of the Order

The merchandise covered by the Order is seamless pipe from Ukraine. For a full description of the scope, see the Preliminary Decision Memorandum.

Methodology

Commerce is conducting this review in accordance with section 751(a) of the Act. We calculated constructed export prices in accordance with section 772 of the Act and normal value in accordance with section 773 of the Act.

For a full description of the methodologies underlying these preliminary results of review, see the Preliminary Decision Memorandum. A list of topics discussed in the Preliminary Decision Memorandum is in the appendix to this notice. The Preliminary Decision Memorandum is a public document that is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Results of Review

We are assigning the following estimated weighted-average dumping margin to the companies comprising the Interpipe single entity listed below for the period February 10, 2021, through July 31, 2022:

Producer and/or exporter | Weighted- average dumping margin (percent)
Interpipe Ukraine LLC/PJSC Interpipe Niznedneprovsky Tube Rolling Plant LLC/Interpipe Niko Tube/Interpipe Europe S.A | 4.99

Disclosure

Commerce intends to disclose the calculations performed for these preliminary results under Administrative Protective Order to parties to the proceeding within five days of the date of publication of this notice in the Federal Register in accordance with 19 CFR 351.224(b).

Public Comment

Interested parties may comment on the preliminary results of this review by submitting case briefs to Commerce no later than 30 days after the date of publication of these preliminary results of review in the Federal Register.⁷ Interested parties may file rebuttal briefs with Commerce no later than seven days after case briefs are due. Interested parties should only respond to arguments raised in case briefs in their rebuttal briefs.⁸ Parties who submit case or rebuttal briefs are requested to submit with each brief a table of contents, a summary of the arguments, not to exceed five pages, and a table of authorities.⁹

⁷ See 19 CFR 351.309(c)(1)(ii).

⁸ See 19 CFR 351.309(d).

⁹ See 19 CFR 351.309(c)(2) and (d)(2).

Pursuant to 19 CFR 351.310(c), interested parties who wish to request a hearing regarding issues raised in the case and rebuttal briefs, must submit a written request for a hearing to the Assistant Secretary for Enforcement and Compliance. Requests for a hearing should contain: (1) the requesting party's name, address, and telephone number; (2) the number of individuals from the requesting party that will attend the hearing and whether any individuals are foreign nationals; and (3) a list of the issues that the party intends to discuss at the hearing. Oral arguments at the hearing will be limited to issues raised in the case and rebuttal briefs. If a hearing is requested, Commerce will announce the date and time of the hearing. Parties should confirm the date and time of the hearing two days before the scheduled hearing date.

All submissions to Commerce must be filed electronically via ACCESS. An electronically filed document must be received successfully in its entirety via ACCESS by 5 p.m. Eastern Time on the due date.¹⁰ Note that Commerce has temporarily modified certain of its requirements for serving documents containing business proprietary information, until further notice.¹¹

¹⁰ See 19 CFR 351.310(c).

¹¹ See Temporary Rule Modifying AD/CVD Service Requirements Due to COVID-19; Extension of Effective Period, 85 FR 41363 (July 10, 2020).

Final Results of Review

Commerce intends to issue the final results of this administrative review, which will include the results of its analysis of issues raised in any briefs, within 120 days of publication of these preliminary results of review in the Federal Register, pursuant to section 751(a)(3)(A) of the Act, unless extended.

Assessment Rates

Upon completion of this administrative review, Commerce shall determine, and U.S. Customs and Border Protection (CBP) shall assess, antidumping duties on all appropriate entries covered by this review.¹² If Interpipe's weighted-average dumping margin in the final results of this review is not zero or de minimis (i.e., greater than or equal to 0.5 percent), we will calculate importer-specific ad valorem assessment rates for the merchandise by dividing the total amount of dumping calculated for all reviewed sales to the importer by the total entered value of the merchandise sold to the importer.¹³ Where either Interpipe's ad valorem weighted-average dumping margin is zero or de minimis, or an importer-specific ad valorem assessment rate is zero or de minimis in the final results of review, we will instruct CBP to liquidate the appropriate entries without regard to antidumping duties.¹⁴

¹² See 19 CFR 351.212(b)(1).

¹³ See 19 CFR 351.212(b)(1).

¹⁴ See 19 CFR 351.106(c)(2); see also Antidumping Proceedings: Calculation of the Weighted-Average Dumping Margin and Assessment Rate in Certain Antidumping Proceedings; Final Modification, 77 FR 8101, 8102 (February 14, 2012) (Final Modification for Reviews).

In accordance with Commerce's “automatic assessment” practice, we will instruct CBP to liquidate POR entries of subject merchandise which Interpipe produced and sold but did not know was destined for the United States, at the all-others rate (i.e., 23.75 percent) ¹⁵ if there is no rate for the intermediate company(ies) involved in the transaction.¹⁶

¹⁵ See Order, 86 FR 35272.

¹⁶ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be in effect for all shipments of subject merchandise entered, or withdrawn from warehouse, for consumption on or after the date of publication of the notice of the final results of this administrative review in the Federal Register, as provided for by section 751(a)(2)(C) of the Act: (1) the cash deposit rate for Interpipe will be equal to the weighted-average dumping margin established for Interpipe in the final results of this administrative review, except if the rate is less than 0.50 percent and, therefore, de minimis within the meaning of 19 CFR 351.106(c)(1), then the cash deposit rate will be zero; (2) for companies that were previously reviewed or investigated in this proceeding that are not listed above, the cash deposit rate will continue to be the rate assigned to the company in the most recently completed segment of this proceeding in which the company was examined; (3) if the exporter of the subject merchandise does not have a company-specific rate but the producer of the subject merchandise does, then the cash deposit rate will be the rate assigned to the producer of the subject merchandise in the most recently completed segment of this proceeding in which the producer was examined; and (4) the cash deposit rate for all other producers or exporters will continue to be the all-others rate of 23.75 percent that was established in the investigation in this proceeding.¹⁷ These cash deposit requirements, when imposed, shall remain in effect until further notice.

¹⁷ See Order, 86 FR at 35272.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results of review in accordance with sections 751(a)(1) and 777(i) of the Act, and 19 CFR 351.213(h)(2) and 351.221(b)(4).

Dated: August 31, 2023.
Lisa W. Wang,
Assistant Secretary for Enforcement and Compliance.

Appendix

List of Topics Discussed in the Preliminary Decision Memorandum

I. Summary

II. Background

III. Scope of the Order

IV. Affiliation/Single Entity

V. Discussion of the Methodology

VI. Currency Conversion

VII. Recommendation

[FR Doc. 2023-19334 Filed 9-6-23; 8:45 am]

BILLING CODE 3510-DS-P